DEPARTMENT OF ENERGY

Federal Energy Regulatory Commission

[Docket No. RD22-2-000]

Commission Information Collection Activities (FERC-725A, FERC-725D, FERC-725G, FERC-725M and FERC-725Z)

AGENCY: Federal Energy Regulatory Commission, Department of Energy.

ACTION: Notice of information collection and request for comments.

SUMMARY: In compliance with the requirements of the Paperwork Reduction Act of 1995, the Federal Energy Regulatory Commission (Commission or FERC) is soliciting public comment on a renewal of currently approved information collection, (FERC-725A, FERC-725D, FERC-725G, FERC-725M and FERC-725Z) the proposed retirement of FAC-010-3, the proposed FAC-011-4, FAC-014-3, IRO-008-3, TOP-001-6 and proposed corresponding revisions to FAC-003-5, PRC-002-3, PRC-023-5 and PRC-026-2 Reliability Standards, which will be submitted to the Office of Management and Budget (OMB) for review. No Comments were received for the 60-day notice published on April 14, 2022.

DATES: Comments on the collection of information are due October 11, 2022.

ADDRESSES: Send written comments on (FERC-725A, FERC-725D, FERC-725G, FERC-725M and FERC-725Z) the proposed retirement of FAC-010-3, the proposed FAC-011-4, FAC-014-3, IRO-008-3, TOP-001-6 and proposed corresponding revisions to FAC-003-5, PRC-002-3, PRC-023-5 and PRC-026-2 to OMB through www.reginfo.gov/public/do/PRAMain. Attention: Federal Energy Regulatory Commission Desk Officer. Please identify the OMB Control Number(s) in the subject line of your comments: 1902-0244 (FERC-725A), 1902-0247 (FERC-725D), 1902-0252 (FERC-725G), 1902-0263 (FERC-725M) and 1902-0276 (FERC-725Z) in the subject line of your comments. Comments should be sent within 30 days of publication of this notice to www.reginfo.gov/public/do/PRAMain.

Please submit copies of your comments to the Commission. You may submit copies of your comments (identified by Docket No. RD22-2-000) by one of the following methods: Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION:

Title: FERC-725A, FERC-725D, FERC-725G, FERC-725M and FERC-725Z.

OMB Control No.: OMB Control No: 1902-0244 (FERC-725A), 1902-0247 (FERC-725D), 1902-0252 (FERC-725G), 1902-0263 (FERC-725M) and 1902-0276 (FERC-725Z).

Type of Request: Three-year approval of the FERC-725A, FERC-725D, FERC-725G, FERC-725M and FERC-725Z information collection requirements with changes to the current reporting requirements as follows.

Abstract: Section 215 of the Federal Power Act (FPA) ¹ requires a Commission-certified Electric Reliability Organization (ERO) to develop mandatory and enforceable Reliability Standards, which are subject to Commission review and approval. The Commission has certified the North American Reliability Corporation (NERC) as the ERO. In addition, a Regional Entity may propose Reliability Standards to be effective in that region.² Once approved, Reliability Standards may be enforced by the ERO subject to Commission oversight or by the Commission independently.

¹ 16 U.S.C. 824o.

² 16 U.S.C. 824o(e)(4). A Regional Entity is an entity that has been approved by the Commission to enforce Reliability Standards under delegated authority from the ERO. See 16 U.S.C. 824o(a)(7) and (e)(4).

The number of respondents below is based on an estimate of the NERC compliance registry for balancing authority, transmission operator, generator operator, generator owner and reliability coordinator. The Commission based its paperwork burden estimates on the NERC compliance registry as of January 7, 2022. According to the registry, there are 98 balancing authorities (BAs), 325 transmission owners (TOs), 168 transmission operators (TOPs), 204 transmission planners (TPs), 1,068 generator owners (GOs), 945 generator operators (GOPs), 302 distribution providers (DPs), 63 planning coordinators (PCs) and 12 reliability coordinators (RCs). The estimates are based on the change in burden from the current standards to the standards approved in this Order. The Commission based the burden estimates on staff experience, knowledge, and expertise. The estimates are based combination on one-time (years 1 and 2) and ongoing execution (year 3) obligations to follow the revised Reliability Standards.

The Project 2015-09 Establish and Communicate System Operating Limits Standard Drafting Team (SDT): (1) developed proposed revisions to Reliability Standards and their applicable functional entities: FAC-011-4 (RC), FAC-014-3 (PC, RC, TO, TP), IRO-008-3 (RC), and TOP-001-6 (BA, TO, GO, DP); (2) proposed the retirement of FAC-010-3 (PA/PC) and developed corresponding revisions to FAC-003-5 (TO, GO), PRC-002-3 (RC, TO, GO), PRC-023-5 (TO, GO, DP, PC), and PRC-026-2 (TO, GO, PC) Reliability Standards to remove or replace references to system operating limits (SOLs) and interconnection reliability operating limits (IROLs) established by planning entities.

The developed proposed revisions to Reliability Standards are:

• FAC-011-4 is applicable to the RC and its purpose is to ensure that SOLs used in the reliable operation of the bulk electric system are determined based on an established RC methodology or methodologies. NERC clarified acceptable system performance criteria for the operations horizon and developed an SOL risk-based notification framework through the RC's SOL methodology.

• FAC-014-3 is applicable to the PC, RC, TOP and TP and its purpose is to ensure that SOLs used in the reliable operation of the bulk electric system are determined based on an established RC methodology or methodologies and that Planning Assessment performance criteria is coordinated with these methodologies. NERC removed references to planning horizon SOLs and IROLs and clearly delineate specific functional entity responsibility for determining and communicating each type of SOL used in operations.

• IRO-008-3 is applicable to the RC and requires RCs to perform analyses and assessments to prevent instability, uncontrolled separation, or cascading. NERC added a new requirement requiring a RC to use its SOL methodology when determining SOL exceedances for its analyses and assessments and further revised a requirement requiring the RC to use its SOL risk-based notification framework when communicating SOL or IROL exceedances.

• TOP-001-6 is applicable to the BA, TOP, GOP, and DP but the proposed revisions only impact the TOP. NERC added a new requirement requiring a TOP to use its RC SOL methodology when determining SOL exceedances and further revised a requirement requiring TOP notifications regarding SOL exceedances to be done according to the risk-based approach in the RC's SOL methodology.

NERC further proposes the retirement of currently effective Reliability Standard FAC-010-3 that requires PCs and TPs to establish SOLs for the planning horizon. The proposed retirement of FAC-010-3 is mainly due to its redundancy with currently effective TPL-001-4 Standard and new requirements in proposed FAC-014-3. In addition, the proposed retirement of FAC-010-3 developed corresponding revisions to proposed Reliability Standards FAC-003-5, PRC-002-3, PRC-023-5, and PRC-026-2 as follows:

• FAC-003-5 is applicable to TOs and GOs and NERC proposes to modify Applicability Sections 4.2.2 and 4.3.1.2 of FAC-003-5 to replace references to “elements of an IROL under NERC Standard FAC-014 by the Planning Coordinator” with references to facilities:

“Identified by the Planning Coordinator or Transmission Planner, per its Planning Assessment of the Near‐Term Transmission Planning Horizon as a Facility that if lost or degraded are expected to result in instances of instability, Cascading, or uncontrolled separation that adversely impacts the reliability of the Bulk Electric System for a planning event.”

• PRC-002-3 is applicable to the RC, TO and GO and NERC proposes to modify the applicability of the PRC-002-3 standard to remove PCs as a responsible entity subject to the standard and replace any references in the standard that would have included PCs with references to RCs. NERC concluded that the RC was the appropriate entity to carry out the duties that currently apply to PCs in certain interconnections, including the identification of BES elements that are part of an IROL or stability-related SOL.

• PRC-023-5 is applicable to the TO, GO, DP and PC and NERC proposes to modify Section B2 of Attachment B to PRC-023-5 as follows:

“B2. The circuit is selected by the Planning Coordinator or Transmission Planner based on Planning Assessments of the Near-Term Transmission Planning Horizon that identify instances of instability, Cascading, or uncontrolled separation, that adversely impact the reliability of the Bulk Electric System for planning events.”

Attachment B sets the criteria used to determine the circuits in a Planning Coordinator area for which Transmission Owners, Generator Owners, and Distribution Providers must comply with certain requirements in the standard applicable to protective relays.

• PRC-026-2 is applicable to the GO, PC and TO and NERC proposes modification to the PRC-026-2 standard, Requirement R1, Criteria 1, 2, and 4 to replace references to planning horizon SOLs with references to the TPL-001-4 Planning Assessment.

The Commission estimates that the NERC proposal, which would retire FAC-010-3, moves impacted and revised Reliability Standards without adding new obligations on registered entities resulting in a change in burden for industry of 128 hours. The proposed retirement of FAC-010-3 is mainly due to its redundancy with currently effective TPL-001-4 Standard and new requirements in proposed FAC-014-3. The Commission based the change in burden estimates on staff experience, knowledge, and expertise.

Proposed Changes Due to the Approval of NERC's Proposed Reliability Standards and the Retirement of FAC-010-3 in Docket No. RD22-2
Reliability standard | Type ³ and number of entity | Number of annual responses per entity | Total number of responses | Average number of burden hours per response | Total burden hours
| (1) | (2) | (1) * (2) = (3) | (4) | (3) * (4) = (5)
FERC-725D
FAC-010-3 ⁴ Retire | PA/PC (63) | 1 | (63) | (220.6 hrs.); ($19,192) | (13,898 hrs.); ($1,209,109)
FAC-010-2.1, R5 ⁵ (FERC-725D) | PA | 1 | (63) | (25.4 hrs.); ($2,209.8) | (1,600 hrs.); ($139,217)
Total Retirement for FAC-010-3 ⁶ | PA | 1 | (63) | (246) | (15,498 hrs.); ($1,348,326)
One Time Estimate Years 1 and 2:
FAC-011-4 | RC (12) | 1 | 12 | 176 hrs.; $15,312 | 2,112 hrs.; $183,744
FAC-014-3 | RC (12) | 1 | 12 | 64 hrs.; $5,568 | 768 hrs.; $66,816
FAC-014-3 | PA/PC (63) | 1 | 63 | 96 hrs.; $8,352 | 6,048 hrs.; $526,176
FAC-014-3 | TP (204) | 1 | 204 | 96 hrs.; $8,352 | 19,584 hrs.; $1,703,808
FAC-014-3 | TOP (168) | 1 | 168 | 32 hrs.; $2,784 | 5,376 hrs.; $467,712
Ongoing Estimate Year 3 ongoing:
FAC-011-4 | RC (12) | 1 | 12 | 16 hrs.; $1,392 | 192 hrs.; $16,704
FAC-014-3 | RC (12) | 1 | 12 | 16 hrs.; $1,392 | 192 hrs.; $16,704
FAC-014-3 | PA/PC (63) | 1 | 63 | 16 hrs.; $1,392 | 1,008 hrs.; $87,696
FAC-014-3 | TP (204) | 1 | 204 | 16 hrs.; $1,392 | 3,264 hrs.; $334,080
FAC-014-3 | TOP (168) | 1 | 168 | 16 hrs.; $1,392 | 2,688 hrs.; $233,856
Sub-Total for FERC-725D |  |  | 918 |  | 41,232 hrs.; $3,637,296
FERC-725M ⁷
One Time Estimate Years 1 and 2:
FAC-003-5 | TO (325) | 4 | 1,300 | 8 hrs.; $696 | 10,400 hrs.; $904,800
FAC-003-5 | GO (1068) | 4 | 4,272 | 8 hrs.; $696 | 34,176 hrs.; $2,973,312
Sub-Total for FERC-725M |  |  | 5,572 |  | 44,576 hrs.; $3,878,112
FERC-725G
One Time Estimate Years 1 and 2:
PRC-002-3 ⁸ | RC (12) | 1 | 12 | 32 hrs.; $2,784 | 384 hrs.; $33,408
PRC-002-3 ⁹ Retired | PA/PC (35) | 1 | (35) | (32 hrs.); ($2,784) | (2,016 hrs.); ($175,392)
PRC-023-5 ¹⁰ | PA/PC (63) | 1 | 63 | 32 hrs.; $2,784 | 2,016 hrs.; $175,392
PRC-026-2 ¹¹ | PA/PC (63) | 1 | 63 | 32 hrs.; $2,784 | 2,016 hrs.; $175,392
Ongoing Estimate Year 3 ongoing:
PRC-002-3 | RC (12) | 1 | 12 | 16 hrs.; $1,392 | 192 hrs.; $16,704
Sub-Total for FERC-725G |  |  | 150 |  | 4,608 hrs.; $400,896
FERC-725Z
One Time Estimate Years 1 and 2:
IRO-008-3 | RC (12) | 1 | 12 | 32 hrs.; $2784 | 384 hrs.; $33,408
Ongoing Estimate Year 3 ongoing:
IRO-008-3 | RC (12) | 1 | 12 | 16 hrs.; $1,392 | 144 hrs.; $16,704
Sub-Total for FERC-725Z |  |  | 24 |  | 528 hrs.; $50,112
FERC-725A
One Time Estimate Years 1 and 2:
TOP-001-6 ¹² | TOP (168) | 1 | 168 | 32 hrs.; $2,784 | 5,376 hrs.; $467,712
Ongoing Estimate Year 3 ongoing:
TOP-001-6 | TOP (168) | 1 | 168 | 16 hrs.; $1,392 | 2,688 hrs.; $233,856
Sub-Total for FERC-725A |  |  | 336 |  | 8,064 hrs.; $701,568
Total Reductions Due to Docket No. RD22-2-000 |  |  |  |  | 99,008 hrs.; $8,667,984

³ RC = Reliability Coordinator; BA = Balancing Authority; TP = Transmission Planner; TOP = Transmission Operator; TO = Transmission Owner; GO = Generator Owner; DP = Distribution Provider; PA/PC = Planning Coordinator; and RC = Reliability Coordinator.

⁴ FAC-010-2, FAC-011-2 and FAC-014 -2 were all approved by the Commission in Docket No. IC14-5-000 COMMISSION INFORMATION COLLECTION ACTIVITIES (FERC-725D); COMMENT REQUEST; EXTENSION (February 21, 2014)) with a burden of 138,979 hours. Staff estimates that the PC burden under FAC-010-3 from that estimate is 10 percent of the total or 13,898 hours. FERC staff estimates that industry costs for salary plus benefits are similar to Commission costs. The FERC 2021 average salary plus benefits for one FERC full-time equivalent (FTE) is $180,703/year (or $87.00/hour) posted by the Bureau of Labor Statistics for the Utilities sector (available at https://www.bls.gov/oes/current/naics3_221000.htm).

⁵ In Docket No. RM13-8-000 FERC 725D OMB Control: From 1902-0247 for the FAC-010-2.1 Requirement R5 burden of 1,600hrs should be retired with full retirement of FAC-010-3.

⁶ The total of manhours associated FAC-010-3 equals the sum of 13,898 hrs. + 1,600 hrs. = 15,498 hrs.

⁷ Proposed revision is a one-time change to align updated terminology in the NERC Standards.

⁸ Proposed revision adds burden to the RC only.

⁹ The removal of the PC from PRC-002-3 is a one-time reduction in burden. Eastern and ERCOT interconnection impacted.

¹⁰ Proposed revision adds burden to the PA/PC only and is a one-time change to align updated terminology in the NERC Standards.

¹¹ Proposed revision adds burden to the PA/PC only and is a one-time change to align updated terminology in the NERC Standards.

¹² Proposed revision adds burden to the TOP only.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: September 2, 2022.
Kimberly D. Bose,
Secretary.

[FR Doc. 2022-19475 Filed 9-8-22; 8:45 am]

BILLING CODE 6717-01-P